ENVIRONMENTAL PROTECTION AGENCY

[FRL-9489-4; Docket ID No. EPA-HQ-ORD-2011-0738]

Draft Toxicological Review of Vanadium Pentoxide: In Support of Summary Information on the Integrated Risk Information System (IRIS)

AGENCY: Environmental Protection Agency (EPA).

ACTION: Notice of Public Comment Period Extension; Notice of Change in Date of Listening Session.

SUMMARY: EPA announced a 60-day public comment period on September 30, 2011, (76FR60825) for the external review draft human health assessment titled, “Toxicological Review of Vanadium Pentoxide: In Support of Summary Information on the Integrated Risk Information System (IRIS)” (EPA/635R-11/004A). EPA is extending the public comment period 30 days at the request of the Vanadium Producers and Reclaimers Association. EPA is also rescheduling the listening session to December 8, 2011. The draft assessment was prepared by the National Center for Environmental Assessment (NCEA) within the EPA Office of Research and Development (ORD). EPA has released this draft assessment solely for the purpose of pre-dissemination peer review under applicable information quality guidelines. This draft assessment has not been formally disseminated by EPA. It does not represent and should not be construed to represent any Agency policy or determination. After public review and comment, an EPA contractor will convene an expert panel for independent external peer review of this draft assessment. The public comment period and external peer review meeting are separate processes that provide opportunities for all interested parties to comment on the assessment. The external peer review meeting will be scheduled at a later date and announced in the Federal Register. Public comments submitted during the public comment period will be provided to the external peer reviewers before the panel meeting and considered by EPA in the disposition of public comments. Public comments received after the public comment period closes will not be submitted to the external peer reviewers and will only be considered by EPA if time permits.

DATES: The public comment period will be extended 30 days to end December 29, 2011. Comments should be in writing and must be received by EPA by December 29, 2011.

The Listening Session on the draft IRIS assessment for vanadium pentoxide will be held on December 8, 2011, beginning at 9 a.m. and ending at 4 p.m., Eastern Standard Time, or when the last presentation has been completed. If you wish to attend the Listening Session, please register by December 1, 2011, following the detailed instructions under DATES provided in the previous Notice (76FR60825).

ADDRESSES: The draft “Toxicological Review of Vanadium Pentoxide: In Support of Summary Information on the Integrated Risk Information System (IRIS)” is available primarily via the Internet on the NCEA home page under the Recent Additions and Publications menus at http://www.epa.gov/ncea. A limited number of paper copies are available from the Information Management Team (Address: Information Management Team, National Center for Environmental Assessment (Mail Code: 8601P), U.S. Environmental Protection Agency, 1200 Pennsylvania Avenue NW., Washington, DC 20460; telephone: (703) 347-8561; facsimile: (703) 347-8691). If you request a paper copy, please provide your name, mailing address, and the draft assessment title.

Comments may be submitted electronically via http://www.regulations.gov, by email, by mail, by facsimile, or by hand delivery/courier. Please follow the detailed instructions provided in the SUPPLEMENTARY INFORMATION section of the previous Notice (76FR60825).

Additional Information: For information on the docket, www.regulations.gov, or the public comment period, please contact the Office of Environmental Information (OEI) Docket (Mail Code: 28221T), U.S. Environmental Protection Agency, 1200 Pennsylvania Ave. NW., Washington, DC 20460; telephone: (202) 566-1752; facsimile: (202) 566-9744; or email: ORD.Docket@epa.gov.

For information on the draft assessment, please contact Maureen Gwinn, National Center for Environmental Assessment (8601P), U.S. Environmental Protection Agency, 1200 Pennsylvania Ave. NW., Washington, DC 20460; telephone: (703) 347-8565; facsimile: (703) 347-8689; or email: FRN_Questions@epa.gov.

Dated: November 3, 2011.
Darrell A. Winner,
Acting Director, National Center for Environmental Assessment.

[FR Doc. 2011-29067 Filed 11-8-11; 8:45 am]

BILLING CODE 6560-50-P